ENVIRONMENTAL PROTECTION AGENCY

40 CFR Part 141

[FRL-9313-3]

Public Meeting: Preliminary Regulatory Determinations for the Third Contaminant Candidate List (CCL 3)

AGENCY: Environmental Protection Agency (EPA).

ACTION: Announcement of meeting.

SUMMARY: The 1996 Safe Drinking Water Act Amendments require the EPA to determine every five years, whether to regulate at least five contaminants from the current Contaminant Candidate List (CCL) with a national primary drinking water regulation. The process of making decisions about whether to regulate any of the unregulated contaminants on the CCL is called Regulatory Determinations. On October 8, 2009, EPA published the third Contaminant Candidate List (CCL 3) containing 116 unregulated contaminants. The Agency is currently in the preliminary process of deciding whether to regulate at least five CCL 3 contaminants (i.e., Regulatory Determinations 3). The purpose of this notice is to announce that EPA will be hosting a public stakeholder meeting on June 16, 2011, from 1 p.m. to 5 p.m., to discuss and obtain input on EPA's process for Regulatory Determination 3 along with the contaminants and the technical information that the Agency is considering. EPA expects to publish the preliminary regulatory determinations for at least five CCL 3 contaminants in mid-2012 and final regulatory determinations by August 2013.

DATES: The public meeting will be held in the Washington, DC metropolitan area on Thursday, June 16, 2011, from 1 p.m. to 5 p.m., Eastern Daylight Savings Time. Participants will be notified of the specific meeting room upon confirmation of registration.

FOR FURTHER INFORMATION CONTACT: For technical inquiries regarding EPA's Regulatory Determinations for contaminants on CCL 3 contact: Mr. Zeno Bain at (202) 564-5970 or by e-mail: bain.zeno@epa.gov. For additional information about the drinking water Contaminant Candidate List and the Regulatory Determinations process, please visit: http://water.epa.gov/scitech/drinkingwater/dws/ccl/index.cfm. Additional information on these and other EPA activities under the Safe Drinking Water Act is also available at the Safe Drinking Water Hotline at (800) 426-4791.

SUPPLEMENTARY INFORMATION: Registration: Individuals planning to attend the Stakeholder Meeting must register for the meeting by contacting Melissa Simic at (202) 564-7722 or by sending an e-mail to simic.melissa@epa.gov no later than Wednesday, June 8, 2011. There is no charge for attending the meeting but seats are limited, so register as soon as possible. Please note that attendees will be required to pass through security checks at the front desk and obtain a visitor's badge. Pre-registration for this meeting will help us facilitate your check-in.

Special Accommodations: The meeting will be held in a building which is accessible to persons using wheel chairs or scooters. For information on access or accommodations for individuals with disabilities, please contact Melissa Simic at (202) 564-7722 or by e-mail at simic.melissa@epa.gov. Please allow at least five business days prior to the meeting to give EPA time to process your request.

Dated: May 24, 2011.
Eric M. Bissonette,
Acting Director, Office of Ground Water and Drinking Water.

[FR Doc. 2011-13404 Filed 5-27-11; 8:45 am]

BILLING CODE 6560-50-P